DEPARTMENT OF ENERGY

National Energy Technology Laboratory; Notice of Availability of a Financial Assistance Solicitation

AGENCY: National Energy Technology Laboratory, Department of Energy (DOE).

ACTION: Notice of availability of a financial assistance solicitation.

SUMMARY: Notice is hereby given of the intent to issue Financial Assistance Solicitation No. DE-PS26-01NT41048 entitled “Development of Technologies and Capabilities for Developing Coal, Oil and Gas Energy Resources.” The Department of Energy's (DOE) National Energy Technology Laboratory (NETL) is conducting this solicitation to competitively seek cost-shared applications for research and development of technologies enabling development of energy resources needed to ensure the availability of affordable energy for the Nation's future. This solicitation seeks applications for energy research and development related activities that promote the efficient and sound production and use of fossil fuels (coal, natural gas, and oil).

DATES: The solicitation will be available on or about December 1, 2000.

ADDRESSES: The solicitation along with all amendments will be posted on the NETL Homepage; at http://www.netl.doe.gov/business. Telephone requests, written requests, E-mail requests, or facsimile requests for a copy of the solicitation package and/or amendments will not be accepted and/or honored. Therefore, applicants are encouraged to periodically check the NETL Homepage to ascertain the status of these documents. Related information on the Fossil Energy areas of interest can be found on the “Technologies” page of the NETL website (www.netl.doe.gov) and on the “Program Areas” page on the NPTO website (www.npto.doe.gov).

FOR FURTHER INFORMATION CONTACT: Lisa A. Kuzniar, MS I07, U.S. Department of Energy, National Energy Technology Laboratory, P.O. Box 880, Morgantown, West Virginia 26507-0880, E-mail Address: lkuzni@netl.doe.gov, Telephone Number: (304) 285-4242.

SUPPLEMENTARY INFORMATION: Through this solicitation, NETL expects support applications in the following seventeen (17) separate (i.e., stand alone) Areas of Interest:

Coal & Environmental Systems:

Power Systems Advanced Research

Gasification Technologies

Combustion Technologies

Carbon Sequestration

Environmental & Water Resources

Vision 21 Technologies (www.netl.doe.gov/products/power1/vision21frameset.htm)

Fuel Processing

Natural Gas Processing

Transportation Fuels & Chemicals

Fuels Advanced Research

Oil Technologies

Ultrasonic Oil Well Stimulation

Reservoir Efficiency Processes

Oil & Gas Environmental

Critical Upstream Advanced Diagnostics and Imaging Technologies

Strategic Center for Natural Gas

Gas Exploration, Production & Storage

Advanced Turbines & Engines

Fuel Cells

Infrastructure Reliability

Applicants must select and target only one (1) Area of Interest per proposal DOE anticipates the award of multiple cost-sharing cooperative agreements under each Area of Interest. Approximately $18 million to $20 million of DOE funds is planned for this solicitation which will cover all Areas of Interest. In accordance with Section 3002 of the Energy Policy Act (EPACT), a minimum of 20% cost share will be required for each project. This solicitation includes multiple closing dates and uses a Two-Step Application process for each closing date. Under Step 1, applicants will submit a pre-application for review. Only those offerors whose pre-applications are selected by DOE will be afforded the opportunity to proceed to Step 2, submittal of a comprehensive application. DOE anticipates the due date for submittal of the pre-application will be December 20, 2000. Offerors are hereby notified that comprehensive applications received on or before the pre-application due date will be discarded prior to evaluation, and will not be evaluated.

Issued in Morgantown, WV on November 9, 2000.
Randolph L. Kesling,
Director, Acquisition and Assistance Division.

[FR Doc. 00-29892 Filed 11-21-00; 8:45 am]

BILLING CODE 6450-01-P